DEPARTMENT OF COMMERCE

National Oceanic and Atmospheric Administration

50 CFR Part 679

[Docket No. 130925836-4174-02]

RIN 0648-XD361

Fisheries of the Exclusive Economic Zone Off Alaska; Reapportionment of the 2014 Gulf of Alaska Pacific Halibut Prohibited Species Catch Limits for the Trawl Deep-Water and Shallow-Water Fishery Categories

AGENCY: National Marine Fisheries Service (NMFS), National Oceanic and Atmospheric Administration (NOAA), Commerce.

ACTION: Temporary rule; reapportionment.

SUMMARY: NMFS is reapportioning the seasonal apportionments of the 2014 Pacific halibut prohibited species catch (PSC) limits for the trawl deep-water and shallow-water species fishery categories in the Gulf of Alaska. This action is necessary to account for the actual halibut PSC use by the trawl deep-water and shallow-water species fishery categories from May 15 through June 30, 2014. This action is consistent with the goals and objectives of the Fishery Management Plan for Groundfish of the Gulf of Alaska.

DATES: Effective 1200 hours, Alaska local time (A.l.t.), July 21, 2014, through 2400 hours, A.l.t., December 31, 2014.

FOR FURTHER INFORMATION CONTACT: Obren Davis, 907-586-7228.

SUPPLEMENTARY INFORMATION: NMFS manages the groundfish fishery in the Gulf of Alaska (GOA) exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The final 2014 and 2015 harvest specifications for groundfish in the GOA (79 FR 12890, March 6, 2014) apportions the 2014 Pacific halibut PSC limit for trawl gear in the GOA to two trawl fishery categories: A deep-water species fishery and a shallow-water species fishery. The halibut PSC limit for these two trawl fishery categories is further apportioned by season, including four seasonal apportionments to the shallow-water species fishery and three seasonal apportionments to the deep-water species fishery. The two fishery categories also are apportioned a combined, fifth seasonal halibut PSC limit. Unused seasonal apportionments are added to the next season apportionment during a fishing year.

Regulations at § 679.21(d)(4)(iii)(D) allow NMFS to combine the management of available PSC limits in the trawl deep-water and shallow-water species fishery categories during the second season (April 1 through July 1) each year. Any remaining amount of the second season halibut PSC limit apportioned to the two separate trawl fishery categories that is available after May 15 may be used in either the deep-water species or shallow-water species fishery. Under this combined halibut PSC limit management, vessels using trawl gear are able to use the remaining, combined amount of the halibut PSC limit that was initially apportioned to each fishery category.

This management measure was effective from May 15 through June 30, 2014, based on the halibut PSC limit in both fishery categories as of May 15, 2014. This 2014 halibut PSC limit includes the combined first and second season halibut PSC limits for the deep-water and shallow-water fisheries categories, which totals 877 mt. The second seasonal apportionment of the halibut PSC limit to the trawl deep-water and shallow-water fisheries ended on July 1, 2014 (§ 679.21(d)(4)). As of July 1, 2014, the trawl deep-water and shallow-water fisheries used 202 mt and 26 mt of halibut PSC, respectively, from May 15 through June 30. Accordingly, NMFS is reapportioning the combined 877 mt halibut PSC limit between these two fishery categories to account for the actual halibut PSC use in each fishery.

In accordance with § 679.21(d)(4)(iii)(D), the Administrator, Alaska Region, NMFS (Regional Administrator), has determined that, based on the actual use of halibut PSC during May 15 through June 30 of the second season, the trawl deep-water and shallow-water fishery halibut PSC limits must be reapportioned. The combined catch of halibut PSC in the deep-water and shallow-water fishery categories between January 1, 2014 and June 30, 2014 was 795 mt of the available 877 mt. Pursuant to § 679.21(d)(4)(iii)(D), the Regional Administrator is reapportioning the 2014 halibut PSC limit of 877 mt between the trawl deep-water and shallow-water fishery categories. Therefore, Table 16 of the final 2014 and 2015 harvest specifications for groundfish in the GOA (79 FR 12890, March 6, 2014) is revised consistent with this adjustment.

Table 16—Final 2014 Apportionment of Pacific Halibut PSC Trawl Limits Between the Trawl Gear Deep-Water Species Fishery and the Shallow-Water Species Fishery Categories
[Values are in metric tons]
Season | Shallow-water | Deep-water ¹ | Total
January 20-April 1 | 168 | 35 | 203
April 1-July 1 | 47 | 627 | 674
Subtotal of combined first and second season limit (January 20—July 1) | 215 | 662 | 877
July 1-September 1 | 185 | 370 | 555
September 1-October 1 | 139 | Any remainder | 139
Subtotal January 20-October 1 | 539 | 1,032 | 1,571
October 1-December 31 ² |  |  | 277
Total |  |  | 1,848
¹ Vessels participating in cooperatives in the Central GOA Rockfish Program will receive 191 mt of the third season (July 1 through September 1) deep-water species fishery halibut PSC apportionment.
² There is no apportionment between trawl shallow-water and deep-water species fishery categories during the fifth season (October 1 through December 31).

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would allow for harvests that exceed the originally specified apportionment of the halibut PSC limits to the deep-water and shallow-water fishery categories. NMFS was unable to publish a notice providing time for public comment because the most recent, relevant data only became available as of July 17, 2014.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: July 21, 2014.
Emily H. Menashes,
Acting Director, Office of Sustainable Fisheries, National Marine Fisheries Service.

[FR Doc. 2014-17416 Filed 7-21-14; 11:15 am]

BILLING CODE 3510-22-P